DEPARTMENT OF AGRICULTURE

Food and Nutrition Service

Agency Information Collection Activities: Proposed Collection; Comment Request—FNS Generic Clearance for the FNS Fast Track Clearance for the Collection of Routine Customer Feedback

AGENCY: Food and Nutrition Service, USDA.

ACTION: Notice.

SUMMARY: In accordance with the Paperwork Reduction Act of 1995, this notice invites the general public and other public agencies to comment on this proposed information collection. This collection is a revision of a currently approved collection to collect qualitative customer and stakeholder feedback in an efficient and timely manner with an accompanying increase in burden hours. An additional example of the type of information collection that this generic clearance covers has been included.

DATES: Written comments must be received on or before August 23, 2022.

ADDRESSES: Comments are invited on: (1) Whether the proposed collection of information is necessary for the proper performance of the Agency's functions, including whether the information will have practical utility; (2) the accuracy of the Agency's estimate of the proposed information collection burden, including the validity of the methodology and assumptions used; (3) ways to enhance the quality, utility and clarity of the information to be collected; and (4) ways to minimize the burden of the collection of information on those who are to respond, including use of appropriate automated, electronic, mechanical, or other technological collection techniques or other forms of information technology.

Comments may be sent to Jamia Franklin and Maureen Lydon, Planning and Regulatory Affairs Office, Food and Nutrition Service, U.S. Department of Agriculture, 1320 Braddock Place, 5th floor, Alexandria, VA 22314. Comments may also be sent via email to Jamia.Franklin@usda.gov and Maureen.Lydon@usda.gov. Comments will also be accepted through the Federal eRulemaking Portal. Go to http://www.regulations.gov, and follow the online instructions for submitting comments electronically.

All responses to this notice will be summarized and included in the request for Office of Management and Budget (OMB) approval. All comments will also become a matter of public record.

FOR FURTHER INFORMATION CONTACT: Requests for additional information or copies of this information collection should be directed to Jamia Franklin at (703) 305-2403 or via email at Jamia.Franklin@usda.gov.

SUPPLEMENTARY INFORMATION:

Title: FNS Generic Clearance for the FNS Fast Track Clearance for the Collection of Routine Customer Feedback.

OMB Number: 0584-0611.

Expiration Date: September 30, 2022.

Type of Request: Revision of a currently approved information collection request.

Abstract: The proposed information collection activity provides a means to garner qualitative customer and stakeholder feedback in an efficient and timely manner. By “qualitative feedback,” we mean information that provides useful insights on perceptions and opinion but are not statistical surveys yielding quantitative results that can be generalized to the population. This feedback will continue to: (1) provide insights into customer or stakeholder perceptions, experiences and expectations, (2) provide an early warning of issues with service and, (3) focus attention on areas where communication, training or changes in operations might improve delivery of products or services. This collection allows for ongoing, collaborative and actionable communications between the Agency and its customers and stakeholders. It also allows feedback to contribute directly to the improvement of program management.

The solicitation of feedback targets areas such as: timeliness, appropriateness, accuracy of information, courtesy, efficiency of service delivery, and resolution of issues with service delivery. Responses are assessed to plan and inform efforts to improve or maintain the quality of service offered to the public. If this information is not collected, vital feedback from customers and stakeholders on the Agency's services will be unavailable.

The Agency will continue to only submit a collection for approval under this generic clearance if it meets the following conditions:

• The collections are voluntary;

• The collections are low-burden for respondents (based on considerations of total burden hours, total number of respondents, or burden-hours per respondent) and are low-cost for both the respondents and the Federal Government;

• The collections do not raise issues of concern to other Federal agencies;

• Any collection is targeted to the solicitation of opinions from respondents who have experience with the program or may have experience with the program in the near future;

• Personally identifiable information (PII) is collected only to the extent necessary and is not retained;

• Information gathered will be used only internally for general service improvement and program management purposes and is not intended for release outside of the agency;

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data usage require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results. As a general matter, information collections do not result in any new system of records containing privacy information and does not ask questions of a sensitive nature, such as sexual behavior and attitudes, religious beliefs, and other matters that are commonly considered private.

A variety of instruments and platforms are used to collect information from respondents. This includes but is not limited to customer feedback surveys, comment cards, focus groups, and quick census or surveys obtaining customer feedback on a variety of Food and Nutrition Service (FNS) programs or portions thereof including the Child Nutrition (CN) program, the Supplemental Nutrition Assistance Program (SNAP), Food Distribution Programs, nutrition policy and promotion, and the Special Supplemental Nutrition Program for Women, Infants and Children and any associated challenges in implementing programs or subsets of programs. The annual burden hours requested (670,000) are based on the number of collections we could conduct over the requested period for this clearance.

Estimated Annual Reporting Burden
Type of collection | Number of respondents | Annual frequency per response | Hours per response | Total hours
Customer Feedback Surveys | 15,000 | 2 | 1 | 30,000
Comment Cards | 7,500 | 2 | 1 | 15,000
Focus Groups | 7,500 | 2 | 1 | 15,000
Quick census or surveys | 305,000 | 2 | 1 | 610,000
Total | 335,000 | 2 | 1 | 670,000

Annual Reporting Burden Estimates

Affected Public: Individuals and Households, Businesses and Organizations, State, Local and/or Tribal Government.

Estimated Number of Respondents: 335,000.

Estimated Number of Responses per Respondent: 2.

Estimated Annual responses: 670,000.

Estimated time per response: Up to 60 minutes.

Burden hours: 670,000.

Cynthia Long,
Administrator, Food and Nutrition Service.

[FR Doc. 2022-13504 Filed 6-23-22; 8:45 am]

BILLING CODE 3410-30-P